DEPARTMENT OF COMMERCE

National Oceanic and Atmospheric Administration

DEPARTMENT OF THE INTERIOR

U.S. Fish and Wildlife Service

[I.D. 050103A]

Notice of Intent To Conduct Public Scoping and Prepare an Environmental Impact Statement Related to the King County, WA, Habitat Conservation Plan

AGENCIES: National Marine Fisheries Service (NMFS), National Oceanic and Atmospheric Administration (NOAA), Commerce; U.S. Fish and Wildlife Service (USFWS), Interior.

ACTION: Notice of Intent to Prepare an Environmental Impact Statement.

SUMMARY: Pursuant to the National Environmental Policy Act (NEPA) and in accordance with the Washington State Environmental Policy Act, this notice advises the public that the USFWS and NMFS (collectively, the Services) intend to gather information necessary to prepare an Environmental Impact Statement (EIS). The EIS is for the potential approval of a Habitat Conservation Plan (HCP) and issuance of two incidental take permits (from NMFS and from the USFWS) to take seven endangered and threatened species and 22 unlisted species in accordance with the Endangered Species Act, as amended (ESA). The permit applicant is King County, WA, Department of Natural Resources and Parks, Wastewater Treatment Division (King County). The application is related to construction, operation, and maintenance activities associated with a regional wastewater conveyance and treatment system in western King, Snohomish, and Pierce Counties, WA (permit activities).

The Services provide this notice to: (1) advise other agencies and the public of our intentions; and (2) obtain suggestions and information on the scope of issues to include in the EIS.

DATES: Written comments are encouraged, and should be received on or before August 11, 2003. The Services will jointly hold public scoping meetings on the following dates:

Date | Time | Location
June 17, 2003 | 3 - 6 p.m. | King Street Center, 201 S. Jackson Street, 8th Floor Conference Center, Seattle, WA
June 24, 2003 | 6 - 8 p.m. | Kohlwes Education Center, 300 SW 7th Street, Renton, WA
June 26, 2003 | 6 - 8 p.m. | Northshore Utility District, 6830 NE 185th Street, Kenmore, WA

ADDRESSES: Address comments and requests for information related to preparation of the EIS, or requests to be added to the mailing list for this project, to Jon Avery, USFWS, 510 Desmond Drive S.E., Suite 102, Lacey, WA 98503-1273; facsimile 360-753-9518; or to Phyllis Meyers, NMFS, 7600 Sand Point Way NE, Seattle, WA 98115-6349.

FOR FURTHER INFORMATION CONTACT: Jon Avery, USFWS, 360-753-5824; or Phyllis Meyers, NMFS, 206-526-4506.

SUPPLEMENTARY INFORMATION:

Background

NEPA requires Federal agencies to conduct an environmental analysis of their proposed actions to determine if the actions may affect the human environment. The Services expect to take action on ESA section 10(a)(1)(B) permit applications anticipated from the King County Wastewater Treatment Division. Therefore, the Services are seeking public input on the scope of the required NEPA analysis, including the range of reasonable alternatives and associated impacts of any alternatives.

Section 9 of the ESA and implementing regulations prohibit the “taking” of a species listed as endangered or threatened. The term take is defined under the ESA to mean harass, harm, pursue, hunt, shoot, wound, kill, trap, capture, or collect, or to attempt to engage in any such conduct (16 U.S.C. 1532 (19)). Harm is defined by the USFWS to include significant habitat modification or degradation where it actually kills or injures wildlife by significantly impairing essential behavioral patterns, including breeding, feeding, and sheltering (50 CFR 17.3). NMFS' definition of harm includes significant habitat modification or degradation where it actually kills or injures fish or wildlife by significantly impairing essential behavioral patterns, including breeding, feeding, spawning, migrating, rearing, and sheltering (64 FR 60727, November 8, 1999).

Section 10 of the ESA contains provisions for the issuance of incidental take permits to non-Federal landowners for the take of endangered and threatened species, provided that all permit issuance criteria are met, including the requirement that the take is incidental to otherwise lawful activities, and will not appreciably reduce the likelihood of the survival and recovery of the species in the wild. In addition, the applicant must prepare and submit to the Services for approval, an HCP containing a strategy for minimizing and mitigating all take associated with the proposed activities to the maximum extent practicable. The applicant must also ensure that adequate funding for the HCP will be provided.

King County needs permits because some its activities have the potential to take listed species. Therefore, King County intends to request permits from NMFS and FWS for Chinook salmon (Oncorhynchus tshawytscha), bull trout (Salvelinus confluentus), and five other listed species (see table below). King County also plans to seek coverage for approximately 22 currently unlisted fish and wildlife species including Dolly Varden (Salvelinus malma), proposed for listing under the ESA's similarity of appearance provisions, and the Western yellow-billed cuckoo (Coccyzus americanus), a candidate for listing under the ESA under specific provisions of the proposed incidental take permits, should these species be listed in the future.

Federally Listed Species Proposed for Coverage
Common Name | Scientific Name | Status | Responsible Agency
Chinook salmon | Oncorhynchus tshawytscha | Threatened | NMFS
Bull trout | Salvelinus confluentus | Threatened | USFWS
Leatherback sea turtle | Dermochelys coriacea | Endangered | USFWS/NMFS
Marbled murrelet | Brachyramphus marmoratus | Threatened | USFWS
Bald eagle | Haliaeetus leucocephalus | Threatened | USFWS
Steller's sea lion | Eumetopias jubatus | Endangered | NMFS
Humpback whale | Megaptera novaeangliae | Endangered | NMFS

King County owns and operates a regional wastewater conveyance and treatment system that serves 1.3 million people in the greater Seattle area. The system receives wastewater from a 420-square-mile area in King County and parts of Snohomish and Pierce Counties. Using an extensive network of pipes and pumps, King County currently conveys wastewater collected from local sewer districts to one of two regional treatment plants, where it undergoes both primary and secondary treatment before it is discharged into Puget Sound through outfalls located offshore of West Point and Duwamish Head.

In response to projected population growth within the Puget Sound region, King County has developed the Regional Wastewater Services Plan (RWSP), which enumerates the new and expanded facilities that King County will need throughout its three-county service area to meet increased demand for its wastewater conveyance and treatment services over the next 40 years. The RWSP is the subject of a Washington State Environmental Policy Act document entitled “Final Environmental Impact Statement for the Regional Wastewater Services Plan, April 1998,” prepared by the Wastewater Treatment Division of the King County Department of Natural Resources. Construction, operation, and maintenance activities associated with some new or expanded facilities called for in the RWSP, as well as those same activities associated with some existing King County facilities, have the potential to impact species subject to protection under Section 9 of the ESA.

King County has initiated discussions with the Services regarding the possibility of receiving permits that would cover take of listed species incidental to the following otherwise lawful activities:

(1) King County's existing and proposed secondary treated effluent discharges permitted under the National Pollutant Discharge Elimination System;

(2) Construction, operation, and maintenance activities associated with King County's existing and proposed effluent discharge outfalls;

(3) Construction, operation, and maintenance activities associated with King County's existing and proposed wastewater treatment facilities;

(4) Construction, operation, and maintenance activities associated with King County's existing and proposed conveyance facilities;

(5)King County habitat restoration projects, water quality improvement projects, water quality and fish habitat monitoring programs, and adaptive management activities intended to avoid, minimize, and mitigate the impacts of King County activities (1)- (4) on the proposed covered species, to the maximum extent practicable.

The King County Wastewater Treatment Division is currently considering the following types of conservation measures for the proposed Habitat Conservation Plan:

(a) A program of land conservation for the preservation, enhancement, or creation of suitable habitats for species addressed in the HCP to mitigate impacts associated with proposed construction activities;

(b) Development of new construction best management practices to avoid or minimize construction impacts on species addressed in the HCP;

(c) Commitment to continuing certain wastewater source control activities that are currently voluntary, targeted at reducing potential environmental risks by removing wastes before they are discharged into the sewer system;

(d) Implementation of an adaptive management program with ongoing monitoring and adjustment of covered activities.

Under NEPA, a reasonable range of alternatives to a proposed project must be developed and considered in the Services' environmental review. At a minimum, the alternatives developed must include: (1) A No Action alternative, and (2) the Proposed Action, with thorough descriptions of its management features and anticipated resource conservation benefits and potential impacts. For the present environmental review, the Services intend to review the HCP and to prepare an EIS. The environmental review will analyze King County's proposed HCP, a “No Action” alternative reflecting the baseline conditions in King, Pierce, and Snohomish Counties under current wastewater treatment practices, as well as a full range of reasonable alternatives and the associated impacts of each. The Services are currently in the process of developing alternatives for analysis. Additional project alternatives may be developed based on input received from this and future scoping notices during development of the EIS.

Comments and suggestions are invited from all interested parties to ensure that the full range of issues related to this proposed action and all significant issues are identified. The Services request that comments be as specific as possible. In particular, we request information regarding: the direct, indirect, and cumulative impacts that implementation of the proposed HCP could have on endangered and threatened and other covered species and their communities and habitats; other possible alternatives; potential adaptive management and/or monitoring provisions; funding issues; baseline environmental conditions in King, Pierce, and Snohomish Counties; other plans or projects that might be relevant to this proposed project; and minimization and mitigation efforts.

In addition to considering potential impacts on listed and other covered species and their habitats, the EIS could include information on potential impacts resulting from alternatives on other components of the human environment. These other components could include air quality, water quality and quantity, geology and soils, cultural resources, social resources, economic resources, and environmental justice.

Comments or questions concerning this proposed action and the environmental review should be directed to the U.S. Fish and Wildlife Service or NMFS at the address or telephone numbers provided above. All comments and materials received, including names and addresses, will become part of the administrative record and may be released to the public.

The environmental review of this project will be conducted in accordance with the requirements of the National Environmental Policy Act of 1969, as amended (42 USC 4321 et seq.), National Environmental Policy Act Regulations (40 CFR 1500-1508), other appropriate Federal laws and regulations, and policies and procedures of the Services for compliance with those regulations.

Dated: May 5, 2003.
David Wesley,
Deputy Regional Director, Fish and Wildlife Service, Region 1, Portland, Oregon

Dated: June 4, 2003.
Phil Williams,
Chief, Endangered Species Division, Office of Protected Resources, National Marine Fisheries Service.

[FR Doc. 03-14580 Filed 6-9-03; 8:45 am]

BILLING CODES 3510-22-S, 4310-55-22